DEPARTMENT OF DEFENSE

Department of the Navy

Meeting of the Ocean Research Advisory Panel

AGENCY: Department of the Navy, DOD.

ACTION: Notice.

SUMMARY: The Ocean Research Advisory Panel (ORAP) will meet to discuss National Oceanographic Partnership Program (NOPP) activities. All sessions of the meeting will remain open to the public.

DATES: The meeting will be held on Wednesday, 26 April, 2000 from 8:30 a.m. to 4:30 p.m.

ADDRESSES: The meeting will be held at The Brookings Institution, Somers Room, 1775 Massachusetts Avenue, NW, Washington, DC.

FOR FURTHER INFORMATION CONTACT: Dr. Steven E. Ramberg, Office of Naval Research, 800 North Quincy Street, Arlington, VA 22217-5660, telephone (703) 696-4358.

SUPPLEMENTARY INFORMATION: This notice of meeting is provided in accordance with the Federal Advisory Committee Act (5 U.S.C. App. 2). The purpose of this meeting is to discuss current and future activities of the National Oceanographic Partnership Program.

Dated: April 5, 2000
J.L. Roth,
Lieutenant Commander, Judge Advocate General's Corps, U.S. Navy, Federal Register Liaison Officer.

[FR Doc. 00-9223 Filed 4-12-00; 8:45 am]

BILLING CODE 3810-FF-U